DEPARTMENT OF COMMERCE

National Oceanic and Atmospheric Administration

[RTID 0648-XD094]

Fisheries of the South Atlantic; South Atlantic Fishery Management Council; Public Meetings

AGENCY: National Marine Fisheries Service (NMFS), National Oceanic and Atmospheric Administration (NOAA), Commerce.

ACTION: Notice of seminar series presentation via webinar.

SUMMARY: The South Atlantic Fishery Management Council (Council) will host a presentation on Larval Dispersal from Spawning Special Management Zones via webinar July 11, 2023.

DATES: The webinar presentation will be held on Tuesday, July 11, 2023, from 1 p.m. until 2:30 p.m.

ADDRESSES:

Meeting address: The presentation will be provided via webinar. The webinar is open to members of the public. Information, including a link to webinar registration will be posted on the Council's website at: https://safmc.net/safmc-seminar-series/ as it becomes available.

Council address: South Atlantic Fishery Management Council, 4055 Faber Place Drive, Suite 201, N. Charleston, SC 29405.

FOR FURTHER INFORMATION CONTACT: Kim Iverson, Public Information Officer, SAFMC; phone: (843) 302-8439 or toll free: (866) SAFMC-10; fax: (843) 769-4520; email: kim.iverson@safmc.net.

SUPPLEMENTARY INFORMATION: The Council will host a presentation from Gulf of Maine Research Institute staff entitled “Simulated larval dispersal of snapper-grouper species to evaluate the efficacy of spawning Special Management Zones.” The presentation involves five spawning Special Management Zones (SMZs) designated off the coasts of North Carolina, South Carolina, and Florida. These are marine protected areas that were explicitly designated to increase the spawning and recruitment of species in the snapper-grouper complex by protecting important spawning areas from fishing pressure. Each location was chosen as a potential source of high recruitment for the broader region. It was unclear, however, if the oceanographic conditions around the spawning SMZs favor recruitment success. Therefore, for several species, larval dispersal via ocean currents was simulated from each SMZ to investigate whether they can effectively serve as sources of recruitment for the snapper-grouper populations in the region.

A question-and-answer session will follow the presentation. Members of the public will have the opportunity to participate in the discussion. The presentation is for informational purposes only and no management actions will be taken.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: June 20, 2023.
Rey Israel Marquez,
Acting Deputy Director, Office of Sustainable Fisheries, National Marine Fisheries Service.

[FR Doc. 2023-13411 Filed 6-22-23; 8:45 am]

BILLING CODE 3510-22-P